DEPARTMENT OF THE INTERIOR

Minerals Management Service

Agency Information Collection Activities: Proposed Collection; Comment Request

AGENCY: Minerals Management Service (MMS), Interior.

ACTION: Notice of extension of an information collection (1010-0072).

SUMMARY: To comply with the Paperwork Reduction Act of 1995 (PRA), we are inviting comments on a collection of information that we will submit to the Office of Management and Budget (OMB) for review and approval. The information collection request (ICR) concerns the paperwork requirements in the regulations under 30 CFR 280, “Prospecting for Minerals other than Oil, Gas, and Sulphur in the Outer Continental Shelf.”

DATES: Submit written comments by October 7, 2002.

ADDRESSES: Mail or hand-carry comments to the Department of the Interior; Minerals Management Service; Attention: Rules Processing Team; Mail Stop 4024; 381 Elden Street; Herndon, Virginia 20170-4817. If you wish to e-mail comments to MMS, the address is: rules.comments@MMS.gov. Reference “Information Collection—1010-0072” in your subject line. Include your name and return address in your message and mark it for return receipt.

FOR FURTHER INFORMATION CONTACT: Alexis London, Rules Processing Team, telephone (703) 787-1600. You may also contact Alexis London to obtain a copy at no cost of the regulations that require the subject collection of information.

SUPPLEMENTARY INFORMATION:

Title: 30 CFR 280, Prospecting for Minerals other than Oil, Gas, and Sulphur in the Outer Continental Shelf.

OMB Control Number: 1010-0072.

Abstract: The Outer Continental Shelf (OCS) Lands Act, as amended (43 U.S.C. 1331 et seq. and 43 U.S.C. 1801 et seq.), authorizes the Secretary of the Interior (Secretary) to prescribe rules and regulations to administer leasing of the OCS. Section 1340 states that “* * * any person authorized by the Secretary may conduct geological and geophysical explorations in the [O]uter Continental Shelf, which do not interfere with or endanger actual operations under any lease maintained or granted pursuant to this Act, and which are not unduly harmful to aquatic life in such area.” The section further requires that, permits to conduct such activities may only be issued if it is determined that: the applicant is qualified; the activities are not polluting, hazardous, or unsafe; they do not interfere with other users of the area; and do not disturb a site, structure, or object of historical or archaeological significance.

Section 1352 further requires that certain costs be reimbursed to the parties submitting required G&G information and data. Under the Act, permittees are to be reimbursed for the costs of reproducing any G&G data required to be submitted. Permittees are to be reimbursed also for the reasonable cost of processing geophysical information required to be submitted when processing is in a form or manner required by the Director and is not used in the normal conduct of the business of the permittee.

Regulations implementing these responsibilities are under 30 CFR part 280. On December 8, 1999, MMS published a Notice of Proposed Rulemaking (64 FR 68649) that proposed amendments to, and revised into plain language, the 30 CFR 280 regulations, as well as other amendments. The OMB approved the information collection burden for the proposed rulemaking. On July 17, 2002, MMS published final regulations (67 FR 46855) with an effective date of August 16, 2002. There were no changes from proposed to final that impacted the information collection burden that OMB had approved as part of the proposed rulemaking process. The current OMB approval expires in January 2003. The revised 30 CFR 280 final regulations, as published, are the subject of this notice and the subsequent submission to OMB for approval of the information collection burden.

Responses are mandatory or required to obtain or retain a benefit. No questions of a “sensitive” nature are asked. The MMS protects information considered proprietary according to 30 CFR 280.70 and applicable sections of 30 CFR parts 250 and 252, and the Freedom of Information Act (5 U.S.C. 552) and its implementing regulations (43 CFR 2).

MMS OCS Regions collect information required under part 280 to ensure there is no environmental degradation, personal harm or unsafe operations and conditions, damage to historical or archaeological sites, or interference with other uses; to analyze and evaluate preliminary or planned drilling activities; to monitor progress and activities in the OCS; to acquire G&G data and information collected under a Federal permit offshore; and to determine eligibility for reimbursement from the Government for certain costs. Respondents are required to submit form MMS-134 to provide the information necessary to evaluate their qualifications. The information is necessary for MMS to determine if the applicants for permits or filers of notices meet the qualifications specified by the Act. The MMS uses the information collected to understand the G&G characteristics of hard mineral-bearing physiographic regions of the OCS. It aids MMS in obtaining a proper balance among the potentials for environmental damage, the discovery of hard minerals, and adverse impacts on affected coastal states. Information from permittees is necessary to determine the propriety and amount of reimbursement.

Frequency: On occasion, annual; and as required in the permit.

Estimated Number and Description of Respondents: Approximately 1 permittee, 1 notice filer, and 1 adjacent State.

Estimated Reporting and Recordkeeping “Hour” Burden: The currently approved annual “hour” burden for this information collection is 88 hours. The following chart details the individual components and respective hour burden estimates of this ICR. In calculating the burdens, we assumed that respondents perform certain requirements in the normal course of their activities. We consider these to be usual and customary and took that into account in estimating the burden.

Citation 30 CFR 280 | Reporting and recordkeeping requirement | Hour burden
10; 11(a); 12; 13; Permit Forms | Apply for a permit (form MMS-134) to conduct prospecting or G&G scientific research activities, including prospecting/scientific research plan and environmental assessment or drilling plan as required | 8
11(b); 12(c) | File notice to conduct scientific research activities related to hard minerals, including notice to MMS prior to beginning and after concluding activities | 8
21(a) | Report to MMS if hydrocarbon/other mineral occurrences or environmental hazards are detected or adverse effects occur | 1
22 | Request approval to modify operations | 1
23(b) | Request reimbursement for expenses for MMS inspection | 1
24 | Submit status and final reports quarterly or on specified schedule and final report | 8
28 | Request relinquishment of permit | 1
31(b); 73(a) and (b) | Governor(s) of adjacent state(s) submissions to MMS: comments on activities involving an environmental assessment; request for proprietary data, information, and samples; and disclosure agreement | 1
33, 34 | Appeal penalty, order, or decision—burden covered under 1010-0121 |
40; 41; 50; 51; Permit Forms | Notify MMS and submit G&G data/information collected under a permit and/or processed by permittees or 3rd parties, including | 4
42(b); 52(b) | Advise 3rd party recipient of obligations. Part of licensing agreement between parties; no submission to MMS |
42(c), 42(d); 52(c), 52(d) | Notify MMS of 3rd party transactions | 1
60; 61(a) | Request reimbursement for costs of reproducing data/information & certain processing costs | 20
72(b) | Submit in not less than 5 days comments on MMS intent to disclose data/information | 1
72(d) | Contractor submits written commitment not to sell, trade, license, or disclose data/information | 1
1-80 | General departure and alternative compliance requests not specifically covered elsewhere in part 280 regulations | 2
Permit Forms | Request extension of permit time period | 1
Permit Forms | Retain G&G data/information for 10 years and make available to MMS upon request | 1

Estimated Reporting and Recordkeeping “Non-Hour Cost” Burden: We have identified no non-hour cost burdens for this collection of information.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the “non-hour cost” burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Policy: Our practice is to make comments, including names and home addresses of respondents, available for public review during regular business hours. Individual respondents may request that we withhold their home address from the record, which we will honor to the extent allowable by the law. There may be circumstances in which we would withhold from the record a respondent's identity, as allowable by the law. If you wish us to withhold your name and/or address, you must state this prominently at the beginning of your comment. However, we will not consider anonymous comments. We will make all submissions from organizations or businesses, and from individuals identifying themselves as representatives or officials of organizations or businesses, available for public inspection in their entirety.

MMS Information Collection Clearance Officer: Jo Ann Lauterbach, (202) 208-7744.

Dated: July 26, 2002.
John V. Mirabella,
Acting Chief, Engineering and Operations Division.

[FR Doc. 02-19813 Filed 8-5-02; 8:45 am]

BILLING CODE 4310-MR-P